DEPARTMENT OF COMMERCE

International Trade Administration

[A-475-818]

Certain Pasta from Italy: Notice of Initiation of Antidumping Duty Changed Circumstances Review

AGENCY: Import Administration, International Trade Administration, Department of Commerce.

SUMMARY: The Department of Commerce (the Department) has obtained information with respect to Pasta Lensi S.r.l. (Lensi), a producer/exporter of pasta from Italy, and American Italian Pasta Company (AIPC), Lensi's corporate parent and importer of subject merchandise produced by Lensi, sufficient to warrant the self-initiation of a changed circumstances review. Interested parties are invited to submit comments, as indicated below.

EFFECTIVE DATE: November 19, 2007.

FOR FURTHER INFORMATION CONTACT: Dennis McClure or Eric Greynolds, AD/CVD Operations, Office 3, Import Administration, U.S. Department of Commerce, Room 4012, 14th Street and Constitution Avenue, NW, Washington, DC 20230; telephone: (202) 485-5973 or (202) 482-6071, respectively.

SUPPLEMENTARY INFORMATION:

Background

On July 24, 1996, the Department published in the Federal Register the antidumping duty order on pasta from Italy (61 FR 38547). Neither Lensi nor its predecessor IAPC¹ was individually investigated during the less-than-fair-value investigation. The Department conducted administrative reviews of Lensi/IAPC for the following periods: July 1, 2000 - June 30, 2001, July 1, 2001 - June 30, 2002, and July 1, 2002 - June 30, 2003. A de minimis margin was found for IAPC in the 2000-2001 review period.² A de minimis margin was found for Lensi in the 2001-2002 review period.³ In the final results of the 2002-2003 administrative review, we again found a de minimis margin for Lensi and also found that Lensi had met the requirements for revocation from the order under 19 CFR 351.222(b)(2) and 351.222(e)(1).⁴ Effective July 1, 2003, the antidumping duty order was revoked with respect to Lensi based on the three consecutive reviews resulting in de minimis dumping margins (see 19 CFR 351.222(b)).⁵

¹ See Notice of Final Results of Antidumping and Countervailing Duty Changed Circumstances Review: Certain Pasta from Italy, 68 FR 41553 (July 14, 2003), in which the Department determined that Lensi was the successor-in-interest to IAPC.

² See Notice of Final Results of the Antidumping Duty Administrative Review and Determination Not to Revoke in Part: Certain Pasta from Italy, 68 FR 6882 (February 11, 2003).

³ See Final Results of the Sixth Administrative Review of the Antidumping Duty Order on Certain Pasta from Italy and Determination Not to Revoke in Part, 69 FR 6255 (February 10, 2004).

⁴ See Notice of Final Results of the Seventh Administrative Review of the Antidumping Duty Order on Certain Pasta from Italy and Determination to Revoke in Part, 70 FR 6832 (February 9, 2005) (Seventh Review Final).

⁵ See Seventh Review Final.

Lensi and AIPC voluntarily disclosed to the Department in letters and in meetings with Department officials⁶ that if Lensi had correctly reported its U.S. sales data in the seventh review, the data would have resulted in the Department calculating an above de minimis dumping margin in the Seventh Review Final and the antidumping duty order would not have been revoked with respect to Lensi. In their submissions, AIPC and Lensi suggest various processes for the Department to address this voluntary disclosure including reinstating Lensi under the order.⁷

⁶ See August 31, September 18, and December 7, 2006, letters to the Secretary of Commerce from Lensi and AIPC. See also Memo to The File from Gary Taverman re: Ex Parte Meeting with Counsel for Lensi, August 31, 2006; Memorandum to The File from Eric B. Greynolds re: Ex Parte Meeting with Representatives of Lensi and the American Italian Pasta Company, September 7, 2006; and Memorandum to The File from Eric B. Greynolds re: Ex Parte Meeting with Representatives of Lensi and the American Italian Pasta Company, November 14, 2006.

⁷ See September 18 and December 7, 2006, letters.

Scope of the Order

Imports covered by this order are shipments of certain non-egg dry pasta in packages of five pounds four ounces or less, whether or not enriched or fortified or containing milk or other optional ingredients such as chopped vegetables, vegetable purees, milk, gluten, diastasis, vitamins, coloring and flavorings, and up to two percent egg white. The pasta covered by this scope is typically sold in the retail market, in fiberboard or cardboard cartons, or polyethylene or polypropylene bags of varying dimensions.

Excluded from the scope of this order are refrigerated, frozen, or canned pastas, as well as all forms of egg pasta, with the exception of non-egg dry pasta containing up to two percent egg white. Also excluded are imports of organic pasta from Italy that are accompanied by the appropriate certificate issued by the Instituto Mediterraneo Di Certificazione, by Bioagricoop Scrl, by QC&I International Services, by Ecocert Italia, by Consorzio per il Controllo dei Prodotti Biologici, by Associazione Italiana per l'Agricoltura Biologica, or by Instituto per la Certificazione Etica e Ambientale (ICEA) are also excluded from this order.

The merchandise subject to this order is currently classifiable under items 1902.19.20 and 1901.90.9095 of the Harmonized Tariff Schedule of the United States (HTSUS). Although the HTSUS subheading is provided for convenience and customs purposes, the written description of the merchandise subject to the order is dispositive.

Initiation of Changed Circumstances Review

As a result of information submitted to the Department by Lensi and AIPC, the Department finds, pursuant to section 751(b)(1) of the Tariff Act of 1930, as amended (the Act), that there is sufficient cause to warrant initiation of a changed circumstances review of the antidumping duty order on certain pasta from Italy with respect to Lensi.

AIPC informed the Department that certain information was not included in the data reported to the Department during the seventh review. Lensi and AIPC acknowledge that, contrary to the final results of the seventh administrative review, Lensi did, in fact, make sales at less than normal value during the 2002 - 2003 review period. As a result, Lensi was not entitled to the de minimis rate it received in the seventh review. Nor was Lensi entitled to revocation from the order because it did not satisfy the criteria of having made sales at not less than normal value for a period of at least three consecutive years.

Interested parties are invited to comment on this initiation and to address this voluntary disclosure, the possible reinstatement of the order with respect to Lensi, and the appropriate rate in the event that we reinstate the order. Interested parties may submit comments within 14 days of publication of this notice, or the first workday thereafter. Rebuttal comments may be filed not later than 21 days after the date of publication of this notice.

The Department will publish in the Federal Register a notice of preliminary results of changed circumstances review, in accordance with 19 CFR 351.221(c)(3)(i), which will set forth the factual and legal conclusions upon which our preliminary results are based. In the event that the Department preliminarily finds that Lensi should be reinstated in the existing antidumping duty order on pasta from Italy, we will order U.S. Customs and Border Protection to suspend liquidation of entries for all shipments of the subject merchandise entered, or withdrawn from warehouse, for consumption on or after the publication date of the preliminary results. The Department will also issue its final results of review within 270 days of the date on which the changed circumstances review is initiated, in accordance with 19 CFR 351.216(e), and will publish these final results in the Federal Register.

This notice is in accordance with section 751(b)(1) of the Act and 19 CFR 351.216 and 351.222.

Dated: November 9, 2007.
David M. Spooner,
Assistant Secretary for Import Administration.

[FR Doc. E7-22554 Filed 11-16-07; 8:45 am]

BILLING CODE 3510-DS-S